DEPARTMENT OF HEALTH AND HUMAN SERVICES

Administration for Children and Families

Proposed Information Collection Activity; Comment Request

Title: Innovative Strategies for Increasing Self-Sufficiency: Baseline Data Collection.

OMB No.: 0970-0343.

Billing Accounting Code (BAC): 418409 (CAN G996121).

Description: The Administration for Children and Families (ACF), U.S. Department of Health and Human Services (HHS), is proposing a data collection activity as part of the Innovative Strategies for Increasing Self-Sufficiency (ISIS) demonstration and evaluation. The ISIS project will test a range of promising strategies to promote employment, self-sufficiency, and reduce dependence on cash welfare. The ISIS project will evaluate multiple employment-focused strategies that build on previous approaches and are adapted to the current Federal, State, and local policy environment. The major goals of the project include increasing the empirical knowledge about the effectiveness of a variety of programs for low-income families to sustain employment and advance to positions that enable self-sufficiency, as well as producing useful findings for both policymakers and program administrators.

This proposed information collection activity focuses on collecting baseline data elements. Two data collection instruments will be completed by all participants prior to random assignment, and a third will be an interview guide to collect information from program staff. The first is a short baseline information form (BIF) that will collect basic identification, demographic, and contact information. The form will include relatively standard items from prior evaluations and national surveys. The second instrument will be a self-administered questionnaire (SAQ), covering information related to the project goals. The third instrument, baseline implementation data collection interviews, will be used to collect information from knowledgeable informants about the service context for each evaluation site using a baseline implementation guide. The purpose of such interviews is to document and assess the service environment in which the evaluation is implemented and the opportunities for control group members to access the same or similar services as the treatment group members.

Respondents: Individuals enrolled in ISIS demonstration interventions, control group members, ISIS program operators (BIF and SAQ) and State and local informants (interviews).

Annual Burden Estimates
Instrument | Annual number of respondents | Number of responses per respondent | Average burden hours per response | Total annual burden hours
Baseline Information Form | 4,800 | 1 | 0.75 | 3,600
Self-Administered Questionnaire | 4800 | 1 | 0.75 | 3,600
Baseline Implementation Data Collection Interviews | 30 | 1 | 1 | 30

Estimated Total Annual Burden Hours: 7,230

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: September 21, 2010.
Steven M. Hanmer,
Reports Clearance Officer.

[FR Doc. 2010-24122 Filed 9-27-10; 8:45 am]

BILLING CODE 4184-01-M